DEPARTMENT OF HOMELAND SECURITY

Coast Guard

33 CFR Part 104

46 CFR Parts 10, 11, 12, and 15

[Docket No. USCG-2012-0917]

Policy Letters on the International Convention on Standards of Training, Certification and Watchkeeping for Seafarers, 1978

AGENCY: Coast Guard, DHS.

ACTION: Notice of availability.

SUMMARY: The Coast Guard announces the availability of three policy letters providing guidance to vessels and mariners subject to the International Convention on Standards of Training, Certification and Watchkeeping for Seafarers, 1978, as amended (STCW). These letters provide guidance on: The hours of rest requirements of the 2010 amendments to the STCW Convention and Code; issuance of endorsements and approval of training for Vessel Personnel with Designated Security Duties (VPDSD) and vessel personnel requiring security awareness training; and issuance of other endorsements and approval of other training to meet the 2010 amendments. These letters are necessary to provide guidance to affected parties until regulations implementing amendments to the STCW are promulgated.

DATES: The three letters are available for viewing beginning October 15, 2012.

ADDRESSES: The policy letters are available for viewing on the Coast Guard's National Maritime Center Web site at http://www.uscg.mil/nmc/.

The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2012-0917 in the “Keyword” box, and then clicking “Search.”

FOR FURTHER INFORMATION CONTACT: If you have questions on this notice, call or email the U.S. Coast Guard, Mariner Credentialing Program Policy Division (CG-CVC-4) at (202) 372-2357 or MMCPolicy@uscg.mil. If you have questions on viewing or submitting material to the docket, call Renee V. Wright, Program Manager, Docket Operations, telephone 202-366-9826.

SUPPLEMENTARY INFORMATION:

Background and Purpose

In 2007, the International Maritime Organization (IMO) embarked on a comprehensive review of the entire STCW Convention and STCW Code. The Parties adopted amendments on June 25, 2010 at the STCW Diplomatic Conference in Manila, Philippines, and the amendments entered into force for all ratifying countries on January 1, 2012.

The STCW Convention is not self-implementing; therefore, the U.S., as a signatory to the Convention, must initiate regulatory changes to ensure full implementation of the amendments to the STCW Convention and STCW Code. The U.S. implements these provisions under the Convention and under the authority of United States domestic laws in United States Code Titles 5, 14, 33, 46, and pursuant to 46 CFR, Chapter I, Subchapter B.

The Coast Guard published a Supplemental Notice of Proposed Rulemaking (SNPRM) on August 1, 2011 (76 FR 45908), proposing changes to implement the STCW Convention and Code, to address the comments received from the public in response to the Notice of Proposed Rulemaking published on November 17, 2009 (74 FR 59354), and to incorporate the 2010 amendments to the STCW Convention that came into force on January 1, 2012. The public comment period for the SNPRM ended on September 30, 2011. The Coast Guard intends to publish a final rule to implement amendments to the STCW, including the 2010 amendments, and ensure that the U.S. is meeting its obligations under the Convention.

Description of Policy Letters

The following three policy letters provide guidance to parties affected by STCW:

1. Hours of Rest

This policy letter provides guidance to clarify the changes associated with the hours of rest requirements found within the 2010 amendments to the STCW Convention and Code. This policy will provide information on the changes to the hours of rest requirements that are now being monitored internationally. It also provides recommended methods to lessen the port state control impact on U.S. vessels while operating abroad until the Coast Guard promulgates the final rule implementing STCW.

2. Security Endorsements

This policy letter provides guidance on the issuance of endorsements and approval of training for Vessel Personnel with Designated Security Duties and vessel personnel requiring security awareness training under the 2010 amendments to the STCW Convention and Code. The IMO has provided an alternative means of compliance until January 1, 2014, and the Coast Guard has determined that the requirements in 33 CFR 104.220 and 104.225 can be used to comply with the 2010 amendments under this alternative. Endorsements will be issued based upon the documentary evidence that an individual has complied with existing regulations.

3. Issuing Endorsements and Approving Training

This policy letter provides guidance on issuance of endorsements other than the security endorsements discussed above, and approval of other related training to meet the 2010 amendments to the STCW Convention and Code. The guidance in this document is intended to assist industry and individual mariners to meet the requirements of STCW and 46 CFR, Chapter I, Subchapter B. This policy provides methods for issuing STCW endorsements established by the 2010 amendments that may be obtained by meeting current domestic requirements. In addition to the information regarding the STCW endorsements, the policy letter announces that the Coast Guard will consider granting approval of training to meet various provisions of the 2010 amendments.

This notice is issued under authority of 5 U.S.C. 552(a) and United States Code Titles 5, 14, 33, 46.

Dated: September 28, 2012.
Paul F. Thomas,
Captain, U.S. Coast Guard, Director of Inspections and Compliance.

[FR Doc. 2012-25128 Filed 10-12-12; 8:45 am]

BILLING CODE 9110-04-P